DEPARTMENT OF HEALTH AND HUMAN SERVICES

Administration for Children and Families

[CFDA Number: 93.297]

Announcement of the Award of Single-Source Expansion Supplement Grants to Eight Personal Responsibility Education Program Innovative Strategies (PREIS) Grantees

AGENCY: Family and Youth Services Bureau, ACYF, ACF, HHS.

ACTION: Notice of the award of single-source expansion supplement grants to eight Personal Responsibility Education Program Innovative Strategies (PREIS) grantees to support the expansion of program services necessary to meet the requirements for reporting performance measures, conducting evaluation-related activities, and strengthening program outcomes for youth participants.

SUMMARY: The Administration for Children and Families (ACF), Administration on Children, Youth and Families (ACYF), Family and Youth Services Bureau (FYSB), Division of Adolescent Development and Support (DADS) announces the award of single-source expansion supplement grants to eight PREIS grantees for the purpose of expanding program participation and/or sites to support the increase of data necessary to determine the level of program effectiveness. In FY 2010, FYSB awarded 13 cooperative agreement grants under Funding Opportunity Announcement (FOA) number: OPHS/OAH/TPP PREP Tier 2-2010. Under this FOA, a total of $9.7 million was made available on a competitive basis to implement and test innovative strategies.

Single-source program expansion supplement awards are made to the following PREIS grantees:

Grantee organization | City | State | Supplement award amount
Children's Hospital Los Angeles | Los Angeles | CA | $52,538.00
Cicatelli Associates Inc | New York | NY | 130,506.00
Demoiselle 2 Femme | Chicago | IL | 34,981.00
Education Development Center, Inc | Newton | MA | 51,181.00
Lighthouse Outreach | Hampton | VA | 50,000.00
OhioHealth | Columbus | OH | 9,660.00
Oklahoma Institute for Child Advocacy | Oklahoma City | OK | 108,009.00
The Village for Families & Children, Inc | Hartford | CT | 60,000.00

DATES: The period of support under these supplements is September 30, 2012, through September 29, 2013.

FOR FURTHER INFORMATION CONTACT: Marc Clark, Program Director, Adolescent Pregnancy Prevention Program, Division of Adolescent Development and Support, Family and Youth Services Bureau, 1250 Maryland Avenue SW., Suite 800, Washington, DC 20024. Telephone: 202-205-8496; Email: marc.clark@acf.hh.gov.

SUPPLEMENTARY INFORMATION: The award of eight single source expansion supplement grants to PREIS grantees is required because of the necessary expansion of the original scope of approved activities. In reviewing grantees' aggressive program and evaluation plans, combined with recruitment efforts to date, FYSB has determined that that these eight grantees would be required to increase the number of program participants and/or increase data collection efforts. Increased funding will help the grantees' programs increase recruitment and retention strategies for program participants that will allow grantees to obtain the minimal statistical power required to report significant outcome data. Outcome data will determine the effectiveness of the implemented pregnancy prevention models used in the program. Thus, the increased number of program participants supports the evaluation requirements outlined in the FOA and the Affordable Care Act.

Additionally, grantees are required to report on performance measures that were specifically defined by FYSB. The data collection will require additional grantee staff time and other resources to compile and report on performance indicators. Performance indicators are based upon the performance measures established by the Department of Health and Human Services (HHS) to include: (a) The number of youth served and hours of service delivery; (b) fidelity to the program model or adaptation of the program model for the target population; (c) community partnerships and competence in working with the target population; and (d) reported gains in knowledge and intentions, and changes in self-reported behaviors of participants.

Award amounts for the eight single source expansion supplement grants total $496,875 and will support activities from September 30, 2012, through September 29, 2013.

Statutory Authority: Section 2953 of the Patient Protection and Affordable Care Act of 2010, Public. Law 111-148, added Section 513 to Title V of the Social Security Act, codified at 42 U.S.C. 713, authorizing the Personal Responsibility Education Program.

Bryan Samuels,
Commissioner, Administration on Children, Youth and Families.

[FR Doc. 2013-14741 Filed 6-19-13; 8:45 am]

BILLING CODE 4184-37-P